FEDERAL MARITIME COMMISSION

Security for the Protection of the Public Financial Responsibility To Meet Liability Incurred for Death or Injury To Passengers or Other Persons On Voyages; Notice of Issuance of Certificate (Casualty)

Notice is hereby given that the following have been issued a Certificate of Financial Responsibility to meet Liability Incurred for Death or Injury to Passengers or other Persons on Voyages pursuant to the provisions of Section 2, Public Law 89-777 (46 U.S.C. 817(d)) and the Federal Maritime Commission's implementing regulations at 46 CFR part 540, as amended:

Celebrity Cruises Inc. and Millennium Inc., 1050 Caribbean Way, Miami, FL 33132

Vessel: Millennium

Cunard Line Limited, 6100 Blue Lagoon Drive, Suite 400, Miami, FL 33126

Vessels: Seabourn Goddess I and Seabourn Goddess II

The Delta Queen Steamboat Co. and Great AQ Steamboat, L.L.C., 1380 Port of New Orleans Place, New Orleans, LA 70130-1890

Vessel: American Queen

The Delta Queen Steamboat Co. and Great Pacific NW Cruise Line, L.L.C., 1380 Port of New Orleans Place, New Orleans, LA 70130-1890

Vessel: Columbia Queen

The Delta Queen Steamboat Co. and Great River Cruise Line, L.L.C., 1380 Port of New Orleans Place, New Orleans, LA 70130-1890

Vessel: Delta Queen

The Delta Queen Steamboat Co. and Great Ocean Cruise Line, L.L.C., 1380 Port of New Orleans Place, New Orleans, LA 70130-1890

Vessel: Mississippi Queen

Imperial Majesty Cruise Line L.L.C., Celebration World Cruises, Inc. and OB Limited, 5100 N. State Road, Suite 137, Fort Lauderdale, FL 33319

Vessel: Oceanbreeze

Lindblad Expeditions, Inc., E.T.I.C.A. and Metrohotel C.A., 720 Fifth Avenue, New York, NY 10019

Vessel: Polaris

Lindblad Expeditions, Inc., SPEX Sea Bird Ltd. and Majestic Alaska Boat Company, 720 Fifth Avenue, New York, NY 10019

Vessel: Sea Bird

Lindblad Expeditions, Inc. and SPEX Sea Lion Ltd., 720 Fifth Avenue, New York, NY 10019

Vessel: Sea Lion

Premier Operations, Ltd. and International Shipping Partners, Inc., 400 Challenger Road, Cape Canaveral, FL 32920

Vessel: The Big Red Boat III

Princess Cruises, Inc., Princess Cruise Lines, Ltd., and The Peninsular and Oriental Steam Navigation Company, 10100 Santa Monica Blvd., Suite 1800, Los Angeles, CA 90067

Vessels: Crown Princess and Regal Princess

Princess Cruises, Inc., Princess Cruise Lines, Ltd., Fairline Shipping Corporation, Ltd., and The Peninsular and Oriental Steam Navigation Company, 10100 Santa Monica Blvd., Suite 1800, Los Angeles, CA 90067

Vessel: Dawn Princess

Princess Cruises, Inc., Princess Cruise Lines, Ltd., Fairline Shipping International Corporation, Ltd., and The Peninsular and Oriental Steam Navigation Company, 10100 Santa Monica Blvd., Suite 1800, Los Angeles, CA 90067

Vessel: Grand Princess

Princess Cruises, Inc., Princess Cruise Lines, Ltd., OP Shipping Corporation, Ltd., and The Peninsular and Oriental Steam Navigation Company, 10100 Santa Monica Blvd., Suite 1800, Los Angeles, CA 90067

Vessel: Ocean Princess

Princess Cruises, Inc., Princess Cruise Lines, Ltd., CP Shipping Corporation, Ltd, and The Peninsular and Oriental Steam Navigation Company, 10100 Santa Monica Blvd., Suite 1800, Los Angeles, CA 90067

Vessel: Sea Princess

Princess Cruises, Inc., Princess Cruise Lines, Ltd., COROT Shipping Corporation (Sociedade Unipessoal) Lda., and The Peninsular and Oriental Steam Navigation Company, 10100 Santa Monica Blvd., Suite 1800, Los Angeles, CA 90067

Vessel: Sun Princess

Dated: June 2, 2000.
Bryant L. VanBrakle,
Secretary.

[FR Doc. 00-14348 Filed 6-6-00; 8:45 am]

BILLING CODE 6730-01-P